DEPARTMENT OF LABOR

Employment and Training Administration

[TA-W-51,415]

Washington Group IDC, Manassas, VA; Notice of Affirmative Determination Regarding Application for Reconsideration

By letter of June 2, 2003, a petitioner requested administrative reconsideration of the Department of Labor's Notice of Negative Determination Regarding Eligibility to Apply for Worker Adjustment Assistance, applicable to workers of the subject firm. The denial notice was signed on May 9, 2003, and published in the Federal Register on June 3, 2003 (68 FR 33197).

The investigation revealed that the petitioning workers of this firm or subdivision do not produce an article within the meaning of section 222(3) of the Act.

The petitioners supplied additional information alleging that they produce a product at an unaffiliated facility whose workers are certified eligible to apply for trade adjustment assistance (Micron Technology, Manassas, Virginia, TA-W-51,231). The Department will conduct further investigation to address this issue.

Conclusion

After careful review of the application, I conclude that the claim is of sufficient weight to justify reconsideration of the Department of Labor's prior decision. The application is, therefore, granted.

Signed at Washington, DC, this 9th day of June, 2003.
Elliott S. Kushner,
Certifying Officer, Division of Trade Adjustment Assistance.

[FR Doc. 03-15480 Filed 6-18-03; 8:45 am]

BILLING CODE 4510-30-P